COMMITTEE FOR THE IMPLEMENTATION OF TEXTILE AGREEMENTS

Determination under the Textile and Apparel Commercial Availability Provision of the Dominican Republic-Central America-United States Free Trade Agreement (CAFTA-DR Agreement)

May 15, 2007.

AGENCY: The Committee for the Implementation of Textile Agreements.

ACTION: Determination to add a product in unrestricted quantities to Annex 3.25 of the CAFTA-DR Agreement.

EFFECTIVE DATE: May 18, 2007.

SUMMARY: The Committee for the Implementation of Textile Agreements (CITA) has determined that certain two-way stretch woven fabric of polyester/rayon/spandex, as specified below, are not available in commercial quantities in a timely manner in the CAFTA-DR region. The product will be added to the list in Annex 3.25 of the CAFTA-DR Agreement in unrestricted quantities.

FOR FURTHER INFORMATION CONTACT: Richard Stetson, Office of Textiles and Apparel, U.S. Department of Commerce, (202) 482-2582.

FOR FURTHER INFORMATION ON-LINE: http://web.ita.doc.gov/tacgi/CaftaReqTrack.nsf.Reference number: 21.2007.04.18.Fabric.ST&RforChannel Fabrics

SUPPLEMENTARYINFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. Articles that otherwise meet the rule of origin to qualify for preferential treatment are not disqualified because they contain one of the products on the Annex 3.25 list.

The CAFTA-DR Agreement provides that this list may be modified pursuant to Article 3.25(4)-(5), when the President of the United States determines that a fabric, yarn, or fiber is not available in commercial quantities in a timely manner in the territory of any Party. The CAFTA-DR Act states that the President will make a determination on whether additional fabrics, yarns, and fibers are available in commercial quantities in a timely manner in the territory of any Party.

The CAFTA-DR Act requires the President to establish procedures governing the submission of a request and providing opportunity for interested entities to submit comments and supporting evidence before a commercial availability determination is made. In Presidential Proclamations 7987 and 7996, the President delegated to CITA the authority under section 203(o)(4) of the CAFTA-DR Act for modifying the Annex 3.25 list. On March 21, 2007, CITA published final procedures it would follow in considering requests to modify the Annex 3.25 list (72 FR 13256).

On April 18, 2007, the Chairman of CITA received a request from Sandler, Travis & Rosenberg, P.A., on behalf of Channel Fabrics, for certain polyester/rayon/spandex two-way stretch woven fabrics, of the specifications detailed below. On April 20, 2007, CITA notified interested parties of, and posted on its website, the accepted petition and requested that interested entities provide, by May 2, 2007, a response advising of its objection to the request or its ability to supply the subject product, and rebuttals to responses by May 8, 2007.

No interested entity filed a response advising of its objection to the request or its ability to supply the subject product.

In accordance with Section 203(o)(4)(C)(iii)(II) of the CAFTA-DR Act, and its procedures, as no interested entity submitted a response objecting to the request or expressing an ability to supply the subject product, CITA has determined to add the specified fabrics to the list in Annex 3.25 of the CAFTA-DR Agreement.

The subject fabrics are added to the list in Annex 3.25 of the CAFTA-DR Agreement in unrestricted quantities. A revised list has been published on-line.

Specifications:

HTS Subheading: | 5407.92.20
| 5407.93.20
Fiber Content: | 70%-75% polyester; 20%-25% viscose rayon; 3% - 6% spandex
Average Yarn Number: | Warp 40/2 to 85/2 metric, 60% to 75% polyester staple
| 20% to 35% viscose rayon staple wrapped around 225 to 126 metric spandex
| (24/2 to 50/2 wrapped around 40 to 70 denier spandex)
Filling: | 90 to 45 metric filament polyester wrapped around 225 to 125 metric spandex
| (100 to 200 denier wrapped around 40 to 70 denier spandex)
| NOTE: The stated size of the spandex yarns is in the condition as delivered to the yarn spinner. Variance may occur in the final fabric.
Length of Staple in Warp: | 1.75 to 2.75 inches
Thread Count: | 152 to 285 warp ends per centimeter x 101 to 209 filling picks per centimeter
| (60 to 112 warp ends per inch x 40 to 82 filling picks per inch)
Weave Type: | Various
Weight: | 200 to 302 grams per square meter (5.9 to 8.9 ounces per square yard)
Width: | 129 to 152 centimeters (50 to 60 inches)
Finish: | Piece dyed; of yarns of different colors.

R. Matthew Priest,
Chairman, Committee for the Implementation of Textile Agreements.

[FR Doc. E7-9633 Filed 5-17-07; 8:45 am]

BILLING CODE 3510-DS-S